DEPARTMENT OF TRANSPORTATION

Federal Railroad Administration

[Docket Number FRA-2010-0157]

Notice of Application for Approval of Discontinuance or Modification of a Railroad Signal System

Pursuant to Title 49 Code of Federal Regulations (CFR) Part 235 and 49 U.S.C. 20502(a), the following railroad has petitioned the Federal Railroad Administration (FRA) seeking approval for the discontinuance or modification of the signal system, as detailed below.

Applicant: Twin Cities & Western Railroad Company, Mr. Mark Wegner, President, 2925 12th Street East, Glencoe, Minnesota 55336.

The Twin Cities & Western Railroad Company (TC&W) seeks approval of the proposed modification of the interlocking at milepost 543.0, in Granite Falls, Minnesota. The modification consists of the movement of the west bound home signal, 98LA, to a point west of the west siding switch; the conversion of the west siding switch from push-button control to hand-operation; the discontinuance and removal of the 98LB signal; and the removal of the “B” head from the 98R signal.

The reason given for the proposed change is to eliminate components that are not necessary for present day operations.

Any interested party desiring to protest the granting of an application shall set forth specifically the grounds upon which the protest is made, and include a concise statement of the interest of the party in the proceeding. Additionally, one copy of the protest shall be furnished to the applicant at the address listed above.

FRA expects to be able to determine these matters without an oral hearing. However, if a specific request for an oral hearing is accompanied by a showing that the party is unable to adequately present his or her position by written statements, an application may be set for public hearing.

All communications concerning this proceeding should be identified by Docket Number FRA-2010-0157 and may be submitted by one of the following methods:

• Web site: http://www.regulations.gov. Follow the instructions for submitting comments on the DOT electronic site;

• Fax: 202-493-2251;

• Mail: Docket Management Facility, U.S. Department of Transportation, 1200 New Jersey Avenue, SE., West Building Ground Floor, Room W12-140, Washington, DC 20590; or

• Hand Delivery: Room W12-140 of the U.S. Department of Transportation West Building Ground Floor, 1200 New Jersey Avenue, SE., Washington, DC, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

FRA wishes to inform all potential commenters that anyone is able to search the electronic form of all comments received into any of our dockets by the name of the individual submitting the comment (or signing the comment, if submitted on behalf of an association, business, labor union, etc.). You may review DOT's complete Privacy Act Statement in the Federal Register published on April 11, 2000 (65 FR 19477) or at http://www.dot.gov/privacy.html.

Issued in Washington, DC, on November 12, 2010.
Michael Logue,
Deputy Associate Administrator for Safety Compliance and Program Implementation.

[FR Doc. 2010-29102 Filed 11-17-10; 8:45 am]

BILLING CODE 4910-06-P